DEPARTMENT OF TRANSPORTATION

Federal Highway Administration

Environmental Impact Statement: Miami-Dade County, Florida

AGENCY: Federal Highway Administration (FHWA), DOT.

ACTION: Notice of Intent.

SUMMARY: The FHWA is issuing this notice to advise the public that an Environmental Impact Statement (EIS) will be prepared for a proposed highway project in Miami-Dade County, Florida.

FOR FURTHER INFORMATION CONTACT: Mr. Gregory E. Williams, P.E., District Transportation Engineer, Federal Highway Administration, 545 John Knox Road, Suite 200, Tallahassee, Florida 32303. Telephone: (850) 942-9650 Ext. 3031.

SUPPLEMENTARY INFORMATION: The FHWA, in cooperation with the Florida Department of Transportation (FDOT, will prepare an EIS for a proposal to improve SR 997 (Krome Avenue) in Miami-Dade County, Florida. The proposed improvement would involve safety and capacity upgrades to SR 997 (Krome Avenue) from SW., 296th Street/Avocado Drive to SW 136th Street/Howard Street, a distance of approximately 10.07 miles. Improvements to the corridor are considered necessary to provide for safety improvements and projected future traffic demands. Alternatives under consideration include (1) taking no action; (20 widening the existing two-lane roadway to a divided two-lane roadway; (3) widening the existing two-lane roadway to a divided two-lane roadway with passing zones; and (4) widening the existing two-lane roadway to a four-lane divided roadway.

Letters describing the proposed action and soliciting comments will be sent to appropriate Federal, State, and local agencies, and to private organizations and citizens who have expressed interest in this project. A series of public meetings are being held in Miami-Dade County beginning in December 2004 and are expected to continue until approximately July 2007. In addition, a Public Hearing will be held. Public notice will be given of the time and location of project meetings and the hearing. The Draft EIS will be made available for public and agency review and comment. A formal kick-off meeting was held on January 20th, 2004.

To ensure that the full range of issues related to the proposed action is addressed and all significant issues identified, comments and suggestions are invited from all interested parties. Comment or questions concerning this proposed action and the EIS should be directed to the FHWA at the address provided above.

(Catalog of Federal Domestic Assistance Program Number 20.205, Highway Research, Planning, and Construction. The regulations implementing Executive Order 12372 regarding inter-governmental consultation on Federal programs and activities apply to this program.)

Issued on: October 13, 2005.
Gregory E. Williams,
District Transportation Engineer, Tallahassee, Florida.

[FR Doc. 05-21699 Filed 10-31-05; 8:45 am]

BILLING CODE 4910-22-M